DEPARTMENT OF ENERGY

Federal Energy Regulatory Commission

Sunshine Act Meeting Notice

The following notice of meeting is published pursuant to section 3(a) of the government in the Sunshine Act (Pub. L. 94-409), 5 U.S.C. 552b:

AGENCY HOLDING MEETING: Federal Energy Regulatory Commission.

DATE AND TIME: January 21, 2016, 10:00 a.m.

PLACE: Room 2C, 888 First Street NE., Washington, DC 20426.

STATUS: OPEN.

MATTERS TO BE CONSIDERED: Agenda.

* NOTE—Items listed on the agenda may be deleted without further notice.

CONTACT PERSON FOR MORE INFORMATION: Kimberly D. Bose, Secretary, Telephone (202) 502-8400.

For a recorded message listing items struck from or added to the meeting, call (202) 502-8627.

This is a list of matters to be considered by the Commission. It does not include a listing of all documents relevant to the items on the agenda. All public documents, however, may be viewed on line at the Commission's Web site at http://www.ferc.gov using the eLibrary link, or may be examined in the Commission's Public Reference Room.

1023RD—MEETING, REGULAR MEETING
[January 21, 2016 10:00 a.m.]
Item No | Docket No. | Company
ADMINISTRATIVE
A-1 | AD16-1-000 | Agency Administrative Matters
A-2 | AD16-7-000 | Customer Matters, Reliability, Security and Market Operations
ELECTRIC
E-1 | RM16-5-000 | Offer Caps in Markets Operated by Regional Transmission Organizations and Independent System Operators
E-2 | RM15-14-000 | Revised Critical Infrastructure Protection Reliability Standards
E-3 | ER14-1174-000 | Southwest Power Pool, Inc.
| EL11-34-002 | Midwest Independent Transmission System Operator, Inc.
| EL14-21-000 | Southwest Power Pool, Inc. v. Midcontinent Independent System Operator, Inc.
| EL14-30-000 | Midcontinent Independent System Operator, Inc. v. Southwest Power Pool, Inc.
E-4 | ER14-1174-001 | Southwest Power Pool, Inc.
| EL11-34-003 | Midwest Independent Transmission System Operator, Inc.
| EL14-21-001 | Southwest Power Pool, Inc. v. Midcontinent Independent System Operator, Inc.
| EL14-30-001 | Midcontinent Independent System Operator, Inc. v. Southwest Power Pool, Inc.
E-5 | ER16-56-000 | Midcontinent Independent System Operator, Inc.
E-6 | QM14-3-000 | Entergy Services, Inc. Entergy Arkansas, Inc. Entergy Gulf States Louisiana, L.L.C.
|  | Entergy Louisiana, LLC Entergy Mississippi, Inc. Entergy New Orleans, Inc. Entergy Texas, Inc.
E-7 | QM15-3-000 | Arkansas Electric Cooperative Corporation
E-8 | ER15-2418-001 | Pacific Gas and Electric Company
| EL15-30-001 (Consolidated) | San Francisco Bay Area Rapid Transit District v. Pacific Gas and Electric Company
E-9 | OMITTED
E-10 | ER15-1783-001 | California Independent System Operator Corporation
E-11 | EL15-96-000 | Backyard Farms Energy LLC Devonshire Energy LLC
MISCELLANEOUS
M-1 | RM15-26-000 | Instant Final Rule Transferring Certain Dispute Resolution Service Matters to the Commission's Landowner Helpline
GAS
G-1 | RP16-302-000 | Columbia Gulf Transmission, LLC
G-2 | RP16-301-000 | Iroquois Gas Transmission System, L.P.
G-3 | RP16-300-000 | Empire Pipeline, Inc.
G-4 | RP16-299-000 | Tuscarora Gas Transmission Company
HYDRO
H-1 | P-2114-276 | Public Utility District No. 2 of Grant County, Washington
CERTIFICATES
C-1 | OMITTED
C-2 | CP15-105-000 | Texas Gas Transmission, Inc.

Dated: January 14, 2016.
Nathaniel J. Davis, Sr.,
Deputy Secretary.

A free Web cast of this event is available through www.ferc.gov. Anyone with Internet access who desires to view this event can do so by navigating to www.ferc.gov' s Calendar of Events and locating this event in the Calendar. The event will contain a link to its Web cast. The Capitol Connection provides technical support for the free Web casts. It also offers access to this event via television in the DC area and via phone bridge for a fee. If you have any questions, visit www.CapitolConnection.org or contact Danelle Springer or David Reininger at 703-993-3100.

Immediately following the conclusion of the Commission Meeting, a press briefing will be held in the Commission Meeting Room. Members of the public may view this briefing in the designated overflow room. This statement is intended to notify the public that the press briefings that follow Commission meetings may now be viewed remotely at Commission headquarters, but will not be telecast through the Capitol Connection service.

[FR Doc. 2016-01113 Filed 1-15-16; 4:15 pm]

BILLING CODE 6717-01-P